DEPARTMENT OF TRANSPORTATION

Federal Aviation Administration

14 CFR Part 39

[Docket No. 2002-NE-45-AD; Amendment 39-13046; AD 2003-03-21]

RIN 2120-AA64

Airworthiness Directives; Pratt & Whitney Canada PW500 Series Turbofan Engines

AGENCY: Federal Aviation Administration, DOT.

ACTION: Final rule; request for comments.

SUMMARY: This amendment adopts a new airworthiness directive (AD) that is applicable to Pratt & Whitney Canada (PWC) PW500 series turbofan engines. This action requires a one-time visual inspection and re-marking, or in lieu of inspection, replacement of certain part numbers (P/N's) of the flexible fuel tube located between the fuel/oil heat exchanger and the integral fuel control unit-fuel pump. This amendment is prompted by reports of fuel found dripping from engine nacelles caused by leaking flexible fuel tubes. The actions specified in this AD are intended to prevent a fire in the engine nacelle.

DATES: Effective February 20, 2003. The incorporation by reference of certain publications listed in the rule is approved by the Director of the Federal Register as of February 20, 2003.

Comments for inclusion in the Rules Docket must be received on or before April 7, 2003.

ADDRESSES: Submit comments in triplicate to the Federal Aviation Administration (FAA), New England Region, Office of the Regional Counsel, Attention: Rules Docket No. 2002-NE-45-AD, 12 New England Executive Park, Burlington, MA 01803-5299. Comments may be inspected at this location, by appointment, between 8 a.m. and 4:30 p.m., Monday through Friday, except Federal holidays. Comments may also be sent via the Internet using the following address: 9-ane-adcomment@faa.gov. Comments sent via the Internet must contain the docket number in the subject line.

The service information referenced in this AD may be obtained from Pratt & Whitney Canada, 1000 Marie-Victorin, Longueuil, Quebec, Canada J4G1A1. This information may be examined, by appointment, at the FAA, New England Region, Office of the Regional Counsel, 12 New England Executive Park, Burlington, MA; or at the Office of the Federal Register, 800 North Capitol Street, NW., suite 700, Washington, DC.

FOR FURTHER INFORMATION CONTACT: Antonio Cancelliere, Aerospace Engineer, Engine Certification Office, FAA, Engine and Propeller Directorate, 12 New England Executive Park, Burlington, MA 01803-5299; telephone (781) 238-7751; fax (781) 238-7199.

SUPPLEMENTARY INFORMATION: Transport Canada, which is the airworthiness authority for Canada, recently notified the FAA that an unsafe condition may exist on PWC PW530A, PW535A, and PW545A turbofan engines. Transport Canada has advised the FAA that there have been five reports of fuel dripping from the engine nacelle. It was found that the dripping fuel was the result of leaking flexible fuel tubes. Transport Canada advises that certain P/N's of the flexible fuel tube, located between the fuel/oil heat exchanger and the integral fuel control unit-fuel pump, may leak due to possible manufacturing defects in the tube.

Manufacturer's Service Information

PWC has issued Service Bulletin (SB) PW500-72-30217, Revision 1, dated July 29, 2002, that specifies procedures for performing a one-time visual inspection of flexible fuel tubes P/N's 30J2285-01 (PW530A engines), 3054416-01 (PW535A engines), and 30J2323-01 (PW545A engines). The tubes must be inspected externally for leaks, local swelling, sponginess of the red silicone rubber, gashes, gouges, and tears, and internally for kinks, gouging, or loose material in the tube bore. Tubes that pass inspection are then re-marked with a new P/N. In lieu of the tube inspection, the SB also allows for replacement of the flexible fuel tube with a different P/N tube. Transport Canada issued AD CF-2002-42, dated September 30, 2002, in order to assure the airworthiness of these PWC PW500 series turbofan engines in Canada.

Bilateral Airworthiness Agreement

This engine model is manufactured in Canada and is type certificated for operation in the United States under the provisions of section 21.29 of the Federal Aviation Regulations (14 CFR 21.29) and the applicable bilateral airworthiness agreement. Pursuant to this bilateral airworthiness agreement, Transport Canada has kept the FAA informed of the situation described above. The FAA has examined the findings of Transport Canada, reviewed all available information, and determined that AD action is necessary for products of this type design that are certificated for operation in the United States.

FAA's Determination of an Unsafe Condition and Required Actions

Since an unsafe condition has been identified that is likely to exist or develop on other Pratt & Whitney Canada PW530A, PW535A, and PW545A turbofan engines of the same type design, this AD is being issued to prevent a fire in the engine nacelle. This AD requires the following within 50 flight hours, but no later than 60 days after the effective date of this AD, whichever occurs first:

• Replacement of flexible fuel tubes P/N's 30J2285-01 (PW530A engines), 3054416-01 (PW535A engines), and 30J2323-01 (PW545A engines) with flexible fuel tubes P/N's 30J2578-01, 3058704-01, and 30J2579-01 respectively; or

• A one-time visual external and internal inspection of flexible fuel tubes P/N's 30J2285-01, 3054416-01, and 30J2323-01; and

• Part number re-marking of flexible fuel tubes that pass inspection. The actions must be done in accordance with the service bulletin described previously.

Immediate Adoption of This AD

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 2002-NE-45-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-03-21 Pratt & Whitney Canada: Amendment 39-13046. Docket No. 2002-NE-45-AD.

Applicability: This airworthiness directive (AD) is applicable to Pratt & Whitney Canada (PWC) PW530A, PW535A, and PW545A turbofan engines with flexible fuel tubes part numbers (P/N's) 30J2285-01, 3054416-01, and 30J2323-01 installed. These engines are installed on, but not limited to Cessna Citation model 550 “Bravo”, model 560XL “Excel”, and model 560 “Encore” airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Compliance with this AD is required within 50 flight hours, but no later than 60 days after the effective date of this AD, whichever occurs first, unless already done.

To prevent a fire in the engine nacelle, do the following:

(a) Replace flexible fuel tubes P/N's 30J2285-01 (PW530A engines), 3054416-01 (PW535A engines), and 30J2323-01 (PW545A engines) with flexible fuel tubes P/N's 30J2578-01, 3058704-01, and 30J2579-01 respectively; or

(b) Perform a one-time visual external and internal inspection of flexible fuel tubes P/N's 30J2285-01 (PW530A engines), 3054416-01 (PW535A engines), and 30J2323-01 (PW545A engines), and fuel tube part number re-marking, in accordance with paragraphs 3.A.(1) through 3.A.(8) of the Accomplishment Instructions of PWC SB PW500-72-30217, Revision 1, dated July 29, 2002.

Alternative Methods of Compliance

(c) An alternative method of compliance or adjustment of the compliance time that provides an acceptable level of safety may be used if approved by the Manager, Engine Certification Office. Operators must submit their requests through an appropriate FAA Principal Maintenance Inspector, who may add comments and then send it to the Manager, Engine Certification Office.

Note 2: Information concerning the existence of approved alternative methods of compliance with this airworthiness directive, if any, may be obtained from the Engine Certification Office.

Special Flight Permits

(d) Special flight permits may be issued in accordance with §§ 21.197 and 21.199 of the Federal Aviation Regulations (14 CFR 21.197 and 21.199) to operate the airplane to a location where the requirements of this AD can be done.

Documents That Have Been Incorporated by Reference

(e) The tube inspection or replacement must be done in accordance with Pratt & Whitney Canada Service Bulletin PW500-72-30217, Revision 1, dated July 29, 2002. This incorporation by reference was approved by the Director of the Federal Register in accordance with 5 U.S.C. 552(a) and 1 CFR part 51. Copies may be obtained from Pratt & Whitney Canada, 1000 Marie-Victorin, Longueuil, Quebec, Canada J4G1A1. Copies may be inspected at the FAA, New England Region, Office of the Regional Counsel, 12 New England Executive Park, Burlington, MA; or at the Office of the Federal Register, 800 North Capitol Street, NW., suite 700, Washington, DC.

Note 3: The subject of this AD is addressed in Transport Canada airworthiness directive CF-2002-42, dated September 30, 2002.

Effective Date

(f) This amendment becomes effective on February 20, 2003.

Issued in Burlington, Massachusetts, on January 29, 2003.
Jay J. Pardee,
Manager, Engine and Propeller Directorate, Aircraft Certification Service.

[FR Doc. 03-2632 Filed 2-4-03; 8:45 am]

BILLING CODE 4910-13-P